DEPARTMENT OF TRANSPORTATION

Federal Railroad Administration

Notice of Comment Period Extension for the Revised Draft Environmental Impact Report/Supplemental Draft Environmental Impact Statement for the California High-Speed Train Project Fresno to Bakersfield Section

AGENCY: Federal Railroad Administration (FRA), United States Department of Transportation (DOT).

ACTION: Notice of comment period extension.

SUMMARY: FRA is issuing this notice to advise the public that the comment period for the Supplemental Draft Environmental Impact Statement (EIS) for the Fresno to Bakersfield Section of the California High-Speed Train (HST) Project (Project) issued on June 20, 2012 has been extended and shall now end on October 19, 2012. FRA and the Project sponsor, the California High Speed Rail Authority (Authority), made this decision to be responsive to stakeholder requests and to encourage comprehensive public participation. FRA is the lead Federal agency and Authority is the lead state agency for the environmental review process. Public hearings were held on August 27, August 28, and August 29, 2012, in the Cities of Fresno, Hanford, and Bakersfield, CA respectively.

DATES: Written comments on the Supplemental Draft EIS for the Fresno to Bakersfield Section should be provided to the California High-Speed Rail Authority on or before October 19, 2012.

ADDRESSES: Written comments on the Supplemental Draft EIS should be sent to the California High-Speed Rail Authority, EIR/EIS Comments, 770 L Street, Suite 800, Sacramento, CA 95814, or may be submitted online at Fresno_Bakersfield@hsr.ca.gov.

FOR FURTHER INFORMATION CONTACT: Mr. David Valenstein, Chief, Environment and Systems Planning Division, Office of Railroad Policy and Development, Federal Railroad Administration, U.S., Department of Transportation, 1200 New Jersey Avenue SE., MS-20, Washington, DC 20590 (telephone: 202-493-6368).

SUPPLEMENTARY INFORMATION: Once completed, the California HST system will provide intercity, high-speed passenger rail service on more than 800 miles of tracks throughout California, connecting the major population centers of Sacramento, the San Francisco Bay Area, the Central Valley, Los Angeles, the Inland Empire, Orange County, and San Diego. It will use state-of-the-art, electrically powered, high-speed, steel-wheel-on-steel-rail technology, including contemporary safety, signaling, and automated train-control systems, with trains capable of operating up to 220 miles per hour (mph) over a fully graded-separated, dedicated double track alignment. The HST System is comprised of multiple sections, one of which is the Fresno to Bakersfield Section analyzed in the Supplemental Draft EIS.

This project-level EIS tiers off of the Statewide Program EIS published in 2005 and the Bay area to Central Valley Program EIS published in 2008 and builds on the earlier decisions and Program EISs. The Fresno to Bakersfield Section is comprised of a 114-mile dedicated, double-track high-speed passenger rail corridor between Fresno and Bakersfield, CA. The Project includes stations in downtown Fresno and Bakersfield, and a possible Kings/Tulare Regional Station in the vicinity of Hanford, CA. A heavy maintenance facility for assembly, testing, and commissioning of trains, train inspection and service, and train overhaul may be construction in the Fresno to Bakersfield Section.

In August 2011, FRA issued a Draft EIS and circulated the document for a 60-day public and agency review and comment period. The Draft EIS analyzed a no action alternative and various action alternatives for the construction and operation of the California HST Project Fresno to Bakersfield Section including alignment alternatives and station locations. FRA and Authority held three public hearings on the Draft EIS held in Fresno, Hanford, and Bakersfield on September 20, September 21, and September 22, 2011 respectively to collect public comments.

Based on substantive comments received during the public and agency review of the Draft EIS, the Authority and FRA decided to reintroduce alignment alternatives west of Hanford. In response to concerns raised by stakeholders in metropolitan Bakersfield, FRA and the Authority also decided to evaluate another alternative in Bakersfield (Bakersfield Hybrid Alternative) in an effort to minimize impacts to residential and community facilities. The FRA and Authority determined that the introduction of these new alternatives and refinements being considered for existing Fresno to Bakersfield route alternatives required preparation of a Supplemental Draft EIS under NEPA and a Revised Draft EIR under CEQA.

Consistent with the provisions of NEPA Section 102(2)(c) (42 U.S.C. 4321 et seq.), the Council on Environmental Quality (CEQ) regulations implementing NEPA (40 CFR parts 1500 et seq.), FRA's Procedures for Considering Environmental Impacts (64 FR 28545, May 26, 1999), the Supplemental Draft EIS describes the Project's purpose and need, identifies the reasonable range of alternatives including the no action alternative, evaluates the potential environmental effects associated with those alternatives, and identifies mitigation measures to minimize potential environmental effects.

Copies of the Supplemental Draft EIS are available online at FRA's Web site: www.fra.dot.gov; the Authority's Web site: www.cahighspeedrail.ca.gov; and are also available for viewing at the following locations near the planned rail system:

• Fresno County Public Library, Central Branch, Central Reference Department, 2420 Mariposa Street, Fresno, CA;

• Fresno County Public Library, Clovis Regional Library, 1155 Fifth Street, Clovis, CA;

• Fresno County Public Library, Laton Branch, 6313 DeWoody Street, Laton, CA;

• Kern County Library, Beale Memorial Library, 701 Truxtun Avenue, Bakersfield, CA;

• Kern County Library, Corcoran Branch, 1001 Chittenden Avenue, Corcoran, CA;

• Kern County Library, Delano Branch, 925 10th Avenue, Delano, CA;

• Kern County Library, Shafter Branch, 236 James Street, Shafter, CA;

• Kern County Library, Wasco Branch, 1102 7th Street, Wasco, CA;

• Kings County Library, Hanford Branch (Main Library), 401 N. Douty Street, Hanford, CA;

• Kings County Library, Lemoore Branch, 457 C Street, Lemoore, CA;

• Tulare County Library, Visalia Branch (Main Library), 200 West Oak Avenue, Visalia, CA; and

• Tulare Public Library, 475 North M Street, Tulare, CA.

Issued in Washington, DC, on September 7, 2012.
Corey Hill,
Director, Rail Project Development and Delivery.

[FR Doc. 2012-22703 Filed 9-13-12; 8:45 am]

BILLING CODE 4910-06-P